NATIONAL AERONAUTICS AND SPACE ADMINISTRATION

48 CFR Part 1802

RIN AD13

Head of Contracting Activity (HCA) Change for NASA Shared Services Center (NSSC)

AGENCY: National Aeronautics and Space Administration (NASA).

ACTION: Final rule.

SUMMARY: This final rule revises the NASA FAR Supplement (NFS) by amending the definition of “Contracting activity” and “Head of the contracting activity (HCA)” consistent with the mission of the NASA Shared Services Center (NSSC) which is to provide selected services in support of Human Resources, Procurement, Financial Management and Information Technology operations across the Agency.

EFFECTIVE DATE: September 6, 2005.

FOR FURTHER INFORMATION CONTACT: Sheryl Goddard, NASA, Office of Procurement, Program Operations Division; (703) 553-2519; e-mail: Sheryl.Goddard@nasa.gov.

SUPPLEMENTARY INFORMATION:

A. Background

On May 13, 2005, the Assistant Administrator for Procurement approved a deviation to NFS 1802.101 to designate the Executive Director for the NSSC as head of the contracting activity for all contracts that directly support the NSSC. This final rule implements that deviation.

B. Regulatory Flexibility Act

This final rule does not constitute a significant revision within the meaning of FAR 1.501 and Public Law 98-577, and publication for public comment is not required. However, NASA will consider comments from small entities concerning the affected NFS Part 1802 in accordance with 5 U.S.C. 610.

C. Paperwork Reduction Act

The Paperwork Reduction Act does not apply because the changes do not impose recordkeeping or information collection requirements which require the approval of the Office of Management and Budget under 44 U.S.C. 3501, et seq.

List of Subjects in 48 CFR Part 1802

Government procurement.

Tom Luedtke,
Assistant Administrator for Procurement.

Accordingly, 48 CFR part 1802 is amended as follows:

PART 1802—DEFINITIONS OF WORDS AND TERMS

1. The authority citation for 48 CFR part 1802 continues to read as follows:

Authority: 42 U.S.C. 2473(c)(1).

2. Amend section 1802.101 by revising the definition of “Contracting activity” and “Head of the contracting activity (HCA)” to read as follows:

1802.101 Definitions.

* * * * *

“Contracting activity” in NASA includes the NASA Headquarters installation, the NASA Shared Services Center, and the following field installations: Ames Research Center, Dryden Flight Research Center, Glenn Research Center at Lewis Field, Goddard Space Flight Center, Johnson Space Center, Kennedy Space Center, Langley Research Center, Marshall Space Flight Center and Stennis Space Center. A major program that may have contracts at multiple field centers may also be considered a “contracting activity.”

* * * * *

“Head of the contracting activity (HCA)” means, for field installations, the Director or other head and, for NASA Headquarters, the Assistant Administrator for Management Systems. For International Space Station (ISS) and Space Shuttle Program contracts, the HCA is the Headquarters Deputy Associate Administrator for ISS and Shuttle Programs in lieu of the field Center Director(s). For Exploration Systems Mission Directorate (ESMD) contracts, the HCA is the Associate Administrator for ESMD in lieu of the field Center Director(s). For NASA Shared Services Center (NSSC) contracts, the HCA is the Executive Director of the NSSC in lieu of the field Center Director(s).

* * * * *

[FR Doc. 05-17594 Filed 9-2-05; 8:45 am]

BILLING CODE 7510-01-P